GENERAL SERVICES ADMINISTRATION

[Notice—PBS-2024-14; Docket No. 2024-0002; Sequence No. 48]

Notice of Availability for a Draft Environmental Impact Statement for the Grand Portage Land Port of Entry Modernization and Expansion Project in Grand Portage, Minnesota

AGENCY: Public Buildings Service (PBS), General Services Administration (GSA).

ACTION: Notice of availability (NOA); announcement of public hearing.

SUMMARY: This notice announces the availability of the Draft Environmental Impact Statement (EIS), which examines potential environmental impacts from the modernization and expansion of the Grand Portage Land Port of Entry (LPOE), which is located within the Grand Portage Reservation of the Grand Portage Band of Lake Superior Chippewa (herein referred to as the Grand Portage Band). The existing Grand Portage LPOE is owned and managed by GSA and is operated by the U.S. Department of Homeland Security's Customs and Border Protection (CBP). The Draft EIS describes the purpose and need for the project; alternatives considered; the existing environment that could be affected; the potential impacts resulting from each of the alternatives; and proposed best management practices and/or mitigation measures.

DATES:

Public Comment Period—Interested parties are invited to provide comments on the Draft EIS. The Public Comment Period begins with publication of this NOA in the Federal Register and will last for 45 days until December 16, 2024. Written comments must be received by the last day of the Public Comment Period (see ADDRESSES section of this NOA on how to submit comments). After the comment period, GSA will prepare the Final EIS.

Hearing Date—GSA will host a hybrid virtual and in-person public hearing on Tuesday, November 19, 2024, from 5:00 p.m. to 7:00 p.m., Central Daylight Time (CDT), where interested parties are invited to join and provide verbal or written comments on the Draft EIS (see ADDRESSES section for location address). Refer to the PUBLIC HEARING INFORMATION section of this NOA for additional information and how to access the online public hearing.

ADDRESSES: Hearing Location—The public may attend the hearing in person at the Grand Portage State Park Welcome Center at 9393 E Highway 61, Grand Portage, MN 55605.

A copy of the Draft EIS can be found on the GSA website at: https://www.gsa.gov/about-us/gsa-regions/region-5-great-lakes/buildings-and-facilities/minnesota/grand-portage-land-port-of-entry. Hard copies are also available at the following locations: Grand Portage Tribal Council Office, 83 Stevens Rd., Grand Portage, MN 55605; Grand Portage Community Center,73 Upper Rd, Grand Portage, MN 55605; Grand Portage Trust Lands, 27 Store Rd., Grand Portage, MN 55605.

Public Comments

In addition to oral comments and written comments provided at the public hearing, members of the public may also submit comments by one of the following methods. All oral and written comments will be considered equally and will be made part of the public record.

• Email: michael.gonczar@gsa.gov. Please include `Grand Portage LPOE EIS' in the subject line of the message.

• Mail: ATTN: Michael Gonczar, Grand Portage LPOE EIS; U.S. General Services Administration, Region 5; 230 S Dearborn Street, Suite 3600, Chicago, IL 60604

FOR FURTHER INFORMATION CONTACT: Michael Gonczar, NEPA Program Manager, GSA, 312-810-2326, michael.gonczar@gsa.gov.

SUPPLEMENTARY INFORMATION:

Public Hearing Information

The in-person meeting will begin with an open house format from 5 p.m. to 5:30 p.m. CDT; this portion of the meeting will not be broadcast. The hybrid in-person and virtual meeting will start promptly at 5:30 p.m. CDT and will begin with presentations on the NEPA and National Historic Preservation Act (NHPA) processes, which are being conducted concurrently for this project, as well as an overview of the proposed project, and then will continue with the findings of the Draft EIS. A copy of the presentation slideshow will be made available prior to the hearing at: https://www.gsa.gov/real-estate/gsa-properties/land-ports-of-entry-and-the-bil/bipartisan-infrastructure-law-construction-project/minnesota. Following the presentation, there will be a moderated session during which members of the public can provide oral comments. Members participating virtually or attending in-person will be able to comment. Comments will be recorded. Attendees can also provide written comments at the public hearing should they not wish to speak.

Members of the public may join the Draft EIS public hearing virtually by entering the Meeting ID: 832 5067 5793, using any of the below methods, or by using the following link https://us06web.zoom.us/j/83250675793. Note that the hearing is best viewed through the Zoom app. Attendees are encouraged to download the Zoom app at the Zoom website (https://zoom.us) on their personal computer or on their mobile device and test their connection prior to the hearing to ensure best results.

• By personal computer (via the Zoom app)—Install the Zoom app at the Zoom website (https://zoom.us) and launch the Zoom app. Click `Join a Meeting' and enter the above Meeting ID. Follow the prompts to enter your name and email address to access the hearing; or

• By personal computer (via the Zoom website)—Using your computer's browser, go to the Zoom website at http://zoom.us/join and enter the above Meeting ID. Click `Join from your browser' and follow the prompts to enter your name; or

• By mobile device (via the Zoom mobile app)—Install and launch the Zoom app. Enter the above Meeting ID.

Whether joining through the Zoom app or web browser, attendees should follow the prompts to connect their computer audio. Attendees are encouraged to connect through the `Computer Audio' tab and click `Join Audio by Computer' under the `Join Audio' button on the bottom of their screen. Users who do not have a computer microphone and wish to provide a comment during the hearing may connect by following the prompts under the `Phone Call' tab under the `Join Audio' button.

For members of the public who do not have access to a personal computer, they may join the hearing audio by dialing the following number: 507-473-4847. When prompted, enter the following information: Meeting ID—832 5067 5793, followed by the pound (#) key; then press pound (#) again when prompted for a participant ID. Note, dialing in to the hearing is only necessary if you are not accessing the hearing through a personal computer or mobile app, or if you would like to provide oral comments during the hearing but do not have a computer microphone.

GSA staff members will be available (in-person and virtually) to assist the public as they offer comments whether they are participating virtually or in person. In addition, a court reporter will be available after the presentation, should in-person attendees wish to provide a verbal comment in private. Following the presentation and public comment session, the meeting will continue with an open house format until 7 p.m. CDT, which will not be broadcast. Interested parties are encouraged to attend and participate in this meeting.

The public hearing will be recorded, and all comments provided will become part of the formal record.

In the event of inclement weather, the meeting may only be held virtually or will be broadcast from the Grand Portage State Park Welcome Center. If the meeting is broadcast from the Grand Portage State Park Welcome Center, a staff member will be available (in-person and virtually) to assist the public in providing public comments via the virtual platform. Please check the GSA project website (https://www.gsa.gov/about-us/gsa-regions/region-5-great-lakes/buildings-and-facilities/minnesota/grand-portage-land-port-of-entry) for updates in the days leading up to the meeting to determine if the meeting will be held in-person, virtually, or will be broadcast from the Grand Portage State Park Welcome Center.

Public Comment Period

The views and comments of the public are necessary in helping GSA in its decision-making process with respect to environmental, cultural, and economic impacts. The public comment process will be accomplished through a hybrid virtual and in-person public hearing, direct mail correspondence to appropriate Tribal, federal, state, and local agencies, and to private organizations and citizens who have previously expressed, or are known to have, an interest in the project. The Draft EIS has considered previous input provided during the scoping period.

Background

The existing 5.7-acre LPOE serves as the port of entry for vehicles and pedestrians crossing the U.S.-Canada border between Grand Portage Reservation in the U.S. and Neebing, Ontario in Canada. The Feasibility Study performed in 2019 determined that the existing structures do not contain the necessary square footage as specified by CBP's space and facility requirements (also referred to as Program of Requirements [POR]). In addition, the facility lacks outbound inspection capabilities. Following preparation of the Feasibility Study, a Program Development Study (PDS) was initiated as the next step in the design process to further refine potential alternatives under consideration. From the PDS process, viable alternatives were further refined into the Proposed Action analyzed within this Draft EIS, in collaboration with the Grand Portage Band, who is serving as a Cooperating Agency for this EIS.

GSA has prepared this Draft EIS for the purpose of analyzing the potential environmental, cultural, and economic impacts resulting from the Proposed Action to modernize and expand the existing Grand Portage LPOE.

Alternatives Under Consideration

The Proposed Action would comprise of modernization and expansion of existing Grand Portage LPOE facilities as described in the PDS. The Proposed Action includes removal of all existing Grand Portage LPOE buildings and replacement with new facilities in a new site configuration. GSA would replace the Grand Portage LPOE with a modernized facility on an expanded footprint, expanding the existing 5.7-acre operational area to a total operational area of approximately 10.4 acres. The Proposed Action would also include upgrades to the electrical distribution system leading to the LPOE by installing a 7.3-mile buried three-phase power line within Arrowhead Cooperative's existing utility right-of-way along the western side of Highway 61. GSA also considered the No Action Alternative, which assumes that GSA would not expand or modernize the Grand Portage LPOE or install the three-phase power line.

The purpose of the Proposed Action is for GSA to support CBP's mission by modernizing and expanding the Grand Portage LPOE. The existing LPOE facilities and their configuration do not meet CBP's current needs and do not allow for expeditious and safe inspection of the traveling public. The deficiencies fall into two broad categories: deficiencies in the overall site layout and substandard building conditions. Therefore, in order to bring the Grand Portage LPOE operations in line with design standards and operational requirements, implementation of the Proposed Action is needed to (1) address space constraints and inefficient traffic flows; (2) shorten and expedite vehicle processing time, to include improving daily commutes across the U.S.-Canada border; (3) decrease congestion and long wait times during the peak travel season; (4) allow CBP to process a higher volume of vehicles traveling to and from Canada, to include further accommodation of potential future spikes in travelers crossing the U.S.-Canada border; and (5) provide a wider single lane for large semi-trucks hauling wind turbine components from Canada.

The Draft EIS addresses the potential environmental impacts of the proposed alternatives on environmental resources including geologic resources, water resources, biological resources, air quality and climate change, noise, traffic and transportation, land use and visual resources, infrastructure and utilities, socioeconomics, cultural resources, human health and safety, and environmental justice and protection of children. Based on the analysis presented in the Draft EIS, impacts to all resource areas would be less-than-significant (i.e., negligible, minor, or moderate) adverse or beneficial. Impact reduction measures are presented in the Draft EIS to reduce potential adverse effects.

GSA is currently undergoing formal consultation with the Tribal Historic Preservation Officer (THPO) to follow coordination procedures as required under Section 106 of the NHPA to determine impacts to historic properties. Mitigation measures may be determined in consultation between GSA, the THPO, and applicable consulting parties.

Under the Endangered Species Act (ESA), GSA is coordinating with USFWS per Section 7 requirements to determine effects to federally protected species. GSA has determined there would be no adverse effects to federally threatened or endangered species with implementation of impact avoidance measures. GSA's findings and correspondence with USFWS to date are incorporated in the Draft EIS.

William Renner,
Director, Facilities Management and Services Programs Division, Great Lakes Region 5, U.S. General Services Administration.

[FR Doc. 2024-24782 Filed 10-31-24; 8:45 am]

BILLING CODE 6820-CF-P